DEPARTMENT OF LABOR

Employment and Training Administration

Notice of Determinations Regarding Eligibility To Apply for Worker Adjustment Assistance

In accordance with section 223 of the Trade Act of 1974, as amended, (19 U.S.C. 2273), the Department of Labor herein presents summaries of determinations regarding eligibility to apply for trade adjustment assistance for workers (TA-W) number and alternative trade adjustment assistance (ATAA) by (TA-W) number issued during the periods of January 2006.

In order for an affirmative determination to be made and a certification of eligibility to apply for directly-impacted (primary) worker adjustment assistance to be issued, each of the group eligibility requirements of section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either:

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Affirmative Determinations for Worker Adjustment Assistance

The following certifications have been issued; the date following the company name and location of each determination references the impact date for all workers of such determination.

The following certifications have been issued. The requirements of (a)(2)(A) (increased imports) of section 222 have been met.

TA-W-58,468; Candor Hosiery Mills, Inc., Distribution Center, Robbins, NC: December 5, 2004.

TA-W-58,468A; Candor Hosiery Mills, Inc., Robbins, NC: December 5, 2004.

TA-W-58,482; Dan River Inc., Home Fashions Sewing, Morven, NC: December 8, 2004.

TA-W-58,530; Fiskars Brands, Inc., SOC Division, Wausau, WI: December 5, 2004.

TA-W-58,553; Precision Source, P&C Quality Turned Components, Esmond, RI: December 28, 2004.

TA-W-58,424; Quality Manufacturing, Inc., Winchester, KY: November 22, 2004.

TA-W-58,341; Alene Candles, Inc., Placement Pros, Valley Employment & ET Staffing, Putnam, CT: November 14, 2004.

TA-W-58,393; E.J. Snyder and Company, Inc., Albemarle, NC: November 18, 2004.

TA-W-58,411; Phibro-Tech, Inc., Sumter Manufacturing Plant, Sumter, SC: November 22, 2004.

TA-W-58,415; El Paso Garment Contractors, Inc., El Paso, TX: November 28, 2004.

TA-W-58,449; Mississippi Polymers, Inc., Corinth, MS: November 30, 2004.

TA-W-58,450; Bay Engineered Castings, New Contracting, Ahead, Custom Staff, ABR, De Pere, WI: November 30, 2004.

TA-W-58,451; Textron Fastening Systems (TFS), TFS Greenville Operations, Greenville, MS: November 10, 2004.

TA-W-58,458; Hitchcock Chair Company, Hitchcock Holdings, New Hartford, CT: December 2, 2004.

TA-W-58,463; Nexus Custom Electronics Corp., Woburn, MA: November 30, 2004.

TA-W-58,501; Tinnerman Palnut, Textron Fastening Systems, Flemingsburg, KY: December 12, 2004.

TA-W-58,504; Yankee Plastics, Inc., Easthampton, MA: November 14, 2004.

TA-W-58,508; Occidental Chemical Corp. (OxyChem), Subsidiary of Occidental Petroleum Corp., New Castle, DE: December 15, 2004.

TA-W-58,513; Apricot, Inc., Hartford, NC: December 7, 2007.

TA-W-58,383; Diversco Integrated Services, Murray Ohio Plant, Lawrenceburg, TN: November 18, 2004.

TA-W-58,544; Wickers Sportswear, Inc., Wolfeboro, NH: December 21, 2004.

The following certifications have been issued. The requirements of (a)(2)(B) (shift in production) of section 222 have been met.

TA-W-58,441; Caldwell Manufacturing Company, Jackson, MS: November 22, 2004.

TA-W-58,438; Palliser Furniture Corp., Carolina Division, Troutman, NC: November 30, 2004.

TA-W-58,478; Rich Products Manufacturing Corp., Winchester, VA: December 1, 2004.

TA-W-58,521; Dan River, Inc., Home Fashions Division, Brookneal, VA: December 19, 2004.

TA-W-58,543; Procon Products, Murfreesboro, TN: December 9, 2004.

TA-W-58,399; Applied Interconnect, Sunnyvale, CA: November 11, 2004.

TA-W-58,498; McLaughlin Company, Petosky, MI: December 9, 2004.

The following certification has been issued. The requirement of supplier to a trade certified firm has been met.

TA-W-58,579; Easthampton Dye Works, Inc., Easthampton, MA: January 4, 2005.

The following certification has been issued. The requirement of downstream producer to a trade certified firm has been met.

None.

Negative Determinations for Worker Adjustment Assistance

In the following cases, the investigation revealed that the criteria for eligibility have not been met for the reasons specified.

The investigation revealed that criterion (a)(2)(A)(I.A) and (a)(2)(B)(II.A) (no employment decline) has not been met.

TA-W-58,454; Metso Automation, Field Systems Division, Shrewsbury, MA.

TA-W-58,445; Christiana Floral, Inc., Christiana, PA.

TA-W-58,515; Ablest Staffing Services, Granite Quarry, NC.

The investigation revealed that criteria (a)(2)(A)(I.B.) (Sales or production, or both, did not decline) and (a)(2)(B)(II.B) (No shift in production to a foreign country) have not been met.

None.

The investigation revealed that criteria (a)(2)(A)(I.C.) (increased imports) and (a)(2)(B)(II.B) (No shift in production to a foreign country) have not been met.

TA-W-58,277; Quin-T Corp., Erie, PA.

TA-W-58,402; Pressed Steel Tank, West Allis, WI.

TA-W-58,417; MacLean-ESNA, Pocahontas, AR.

TA-W-58,427; Pure-Flo Precision, Div. of ITT Industries, Inc., Springfield, MO.

TA-W-58,444; Johnson Controls, Inc., Automotive Systems Group, Earth City, MO.

TA-W-58,473; National Textiles, Plant #1, China Grove, NC.

The investigation revealed that criteria (a)(2)(A)(I.C.)(Increased imports and (a) (2) (B) (II.C) (has shifted production to a foreign country) have not been met.

None.

The workers firm does not produce an article as required for certification under Section 222 of the Trade Act of 1974.

TA-W-58,486; Hewlett-Packard Company, Omaha, NE.

TA-W-58,446; Boise Cascade Corporation, Cascade, ID.

TA-W-58,464; South-Eastern Fabrics Corp., Conover, NC.

TA-W-58,474; IBM Global Services, Oakbrook Helpdesk, Oakbrook, IL.

TA-W-58,547; Nicholson Manufacturing Company, Seattle, WA.

TA-W-58,554; Logistics Services, Inc., Oklahoma City, OK.

TA-W-58,577; Dystar LP, Charlotte, NC.

The investigation revealed that criteria (2) has not been met. The workers firm (or subdivision) is not a supplier or downstream producer to trade-affected companies.

TA-W-58,354; Creform Corporation, Textube Division, Greer, SC.

Affirmative Determinations for Alternative Trade Ajdustment Assistance

In order for the Division of Trade Adjustment Assistance to issued a certification of eligibility to apply for Alternative Trade Adjustment Assistance (ATAA) for older workers, the group eligibility requirements of section 246(a)(3)(A)(ii) of the Trade Act must be met.

The following certifications have been issued; the date following the company name and location of each determination references the impact date for all workers of such determinations.

In the following cases, it has been determined that the requirements of section 246(a)(3)(ii) have been met.

I. Whether a significant number of workers in the workers' firm are 50 years of age or older.

II. Whether the workers in the workers' firm possess skills that are not easily transferable.

III. The competitive conditions within the workers' industry (i.e., conditions within the industry are adverse).

TA-W-58,468; Candor Hosiery Mills, Inc., Distribution Center, Robbins, NC: December 5, 2004.

TA-W-58,468A; Candor Hosiery Mills, Inc., Robbins, NC: December 5, 2004.

TA-W-58,482; Dan River Inc., Home Fashions Sewing, Morven, NC: December 8, 2004.

TA-W-58,530; Fiskars Brands, Inc., SOC Division, Wausau, WI: December 5, 2004.

TA-W-58,553; Precision Source, P&C Quality Turned Components, Esmond, RI: December 28, 2004.

TA-W-58,341; Alene Candles, Inc., Placement Pros, Valley Employment & ET Staffing, Putnam, CT: November 14, 2004.

TA-W-58,393; E.J. Snyder and Company, Inc., Albemarle, NC: November 18, 2004.

TA-W-58,411; Phibro-Tech, Inc., Sumter Manufacturing Plant, Sumter, SC: November 22, 2004.

TA-W-58,415; El Paso Garment Contractors, Inc., El Paso, TX: November 28, 2004.

TA-W-58,449; Mississippi Polymers, Inc., Corinth, MS: November 30, 2004.

TA-W-58,450; Bay Engineered Castings, New Contracting, Ahead, Custom Staff, ABR, De Pere, WI: November 30, 2004.

TA-W-58,451; Textron Fastening Systems (TFS), TFS Greenville Operations, Greenville, MS: November 10, 2004.

TA-W-58,458; Hitchcock Chair Company, Hitchcock Holdings, New Hartford, CT: December 2, 2004.

TA-W-58,463; Nexus Custom Electronics Corp., Woburn, MA: November 30, 2004.

TA-W-58,501; Tinnerman Palnut, Textron Fastening Systems, Flemingsburg, KY: December 12, 2004.

TA-W-58,504; Yankee Plastics, Inc., Easthampton, MA: November 14, 2004.

TA-W-58,508; Occidental Chemical Corp. (OxyChem), Subsidiary of Occidental Petroleum Corp., New Castle, DE: December 15, 2004.

TA-W-58,513; Apricot, Inc., Hartford, NC: December 7, 2007

TA-W-58,383; Diversco Integrated Services, Murray Ohio Plant, Lawrenceburg, TN: November 18, 2004.

TA-W-58,544; Wickers Sportswear, Inc., Wolfeboro, NH: December 21, 2004.

TA-W-58,438; Palliser Furniture Corp., Carolina Division, Troutman, NC: November 30, 2004.

TA-W-58,478; Rich Products Manufacturing Corp., Winchester, VA: December 1, 2004.

TA-W-58,521; Dan River, Inc., Home Fashions Division, Brookneal, VA: December 19, 2004.

TA-W-58,543; Procon Products, Murfreesboro, TN: December 9, 2004.

TA-W-58,399; Applied Interconnect, Sunnyvale, CA: November 11, 2004.

TA-W-58,498; McLaughlin Company, Petosky, MI: December 9, 2004.

TA-W-58,579; Easthampton Dye Works, Inc., Easthampton, MA: January 4, 2005.

Negative Determinations for Alternative Trade Adjustment Assistance

In order for the Division of Trade Adjustment Assistance to issued a certification of eligibility to apply for Alternative Trade Adjustment Assistance (ATAA) for older workers, the group eligibility requirements of section 246(a)(3)(A)(ii) of the Trade Act must be met.

In the following cases, it has been determined that the requirements of section 246(a)(3)(ii) have not been met for the reasons specified.

Since the workers are denied eligibility to apply for TAA, the workers cannot be certified eligible for ATAA.

TA-W-58,454; Metso Automation, Field Systems Division, Shrewsbury, MA.

TA-W-58,277; Quin-T Corp., Erie, PA.

TA-W-58,402; Pressed Steel Tank, West Allis, WI.

TA-W-58,417; MacLean-ESNA, Pocahontas, AR.

TA-W-58,427; Pure-Flo Precision, Div. of ITT Industries, Inc., Springfield, MO.

TA-W-58,444; Johnson Controls, Inc., Automotive Systems Group, Earth City, MO.

TA-W-58,445; Christiana Floral, Inc., Christiana, PA.

TA-W-58,473; National Textiles, Plant #1, China Grove, NC.

TA-W-58,515; Ablest Staffing Services, Granite Quarry, NC.

TA-W-58,486; Hewlett-Packard Company, Omaha, NE.

TA-W-58,446; Boise Cascade Corporation, Cascade, ID.

TA-W-58,464; South-Eastern Fabrics Corp., Conover, NC.

TA-W-58,474; IBM Global Services, Oakbrook Helpdesk, Oakbrook, IL.

TA-W-58,547; Nicholson Manufacturing Company, Seattle, WA.

TA-W-58,554; Logistics Services, Inc., Oklahoma City, OK.

TA-W-58,577; Dystar LP, Charlotte, NC.

TA-W-58,354; Creform Corporation, Textube Division, Greer, SC.

The Department as determined that criterion (1) of section 246 has not been met. Workers at the firm are 50 years of age or older.

None.

The Department as determined that criterion (2) of Section 246 has not been met. Workers at the firm possess skills that are easily transferable.

TA-W-58,424; Quality Manufacturing, Inc., Winchester, KY: November 22, 2004.

The Department as determined that criterion (3) of Section 246 has not been met. Competition conditions within the workers' industry are not adverse.

None.

I hereby certify that the aforementioned determinations were issued during the month of January 2006. Copies of These determinations are available for inspection in Room C-5311, U.S. Department of Labor, 200 Constitution Avenue, NW., Washington, DC 20210 during normal business hours or will be mailed to persons who write to the above address.

Dated: January 24, 2006.
Erica R. Cantor,
Director, Division of Trade Adjustment Assistance.

[FR Doc. E6-1193 Filed 1-30-06; 8:45 am]

BILLING CODE 4510-30-P